DEPARTMENT OF LABOR

Mine Safety and Health Administration

Petitions for Modification

The following parties have filed petitions to modify the application of existing safety standards under section 101(c) of the Federal Mine Safety and Health Act of 1977.

1. CONSOL of Kentucky

[Docket No. M-2003-029-C]

CONSOL of Kentucky, 1800 Washington Road, Pittsburgh, Pennsylvania 15241 has filed a petition to modify the application of 30 CFR 75.1101-8 (Water sprinkler systems; arrangement of sprinklers) to its Salyers Branch Mine (MSHA I.D. No. 15-18591) located in Floyd County, Kentucky. The petitioner proposes to use a single line of automatic sprinklers for its fire protection system on main and secondary belt conveyors in the Salyers Branch Mine. The petitioner states that the sprinklers will be maintained at a distance of not more than 10 feet apart so that the water discharged from the sprinklers will cover 50 feet of fire-resistant belt or 150 feet of non-fire resistant belt adjacent to the belt drive. The discharge of water will extend over the belt drive, belt take-up, electrical control, and gear reducing unit with the water pressure no less than 10 psi during operation of the system. The petitioner asserts that the proposed alternative method would provide at least the same measure of protection as the existing standard.

2. Eastern Associated Coal Corporation

[Docket No. M-2003-030-C]

Eastern Associated Coal Corporation, 202 Laidley Tower, P.O. Box 1233, Charleston, West Virginia 25324-1233 a petition to modify the application of 30 CFR 75.503 (Permissible electric face equipment; maintenance) and 30 CFR 18.44(c) (Non-intrinsically safe battery powered equipment) to its Harris No. 1 Mine (MSHA I.D. No. 46-01271) located in Boone County, West Virginia. The petitioner proposes to change the length of exposed cable and conduit on the Stamler BH20 Coal Haulers from 36 inches to 48 inches. The petitioner states that all glands and cables will remain the same as approved and no other changes will be made as part of this petition. The petitioner asserts that the 36 inch maximum cable length on the coal haulers would result in a diminution of safety to the miners.

3. Pine Ridge Coal Company

[Docket No. M-2003-031-C]

Pine Ridge Coal Company, 202 Laidley Tower, P.O. Box 1233, Charleston, West Virginia 25324-1233 has filed a petition to modify the application of 30 CFR 75.503 (Permissible electric face equipment; maintenance) and 30 CFR 18.44(c) (Non-intrinsically safe battery powered equipment) to its Big Mountain No. 16 Mine (MSHA I.D. No. 46-07908) located in Boone County, West Virginia. The petitioner proposes to change the length of exposed cable and conduit on the Stamler BH20 Coal Haulers from 36 inches to 48 inches. The petitioner states that all glands and cables will remain the same as approved and no other changes will be made as part of this petition. The petitioner asserts that the 36 inch maximum cable length on the coal haulers would result in a diminution of safety to the miners.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before June 23, 2003. Copies of these petitions are available for inspection at that address.

Dated at Arlington, Virginia this 16th day of May 2003.
Marvin W. Nichols, Jr.,
Director, Office of Standards, Regulations, and Variances.

[FR Doc. 03-12903 Filed 5-22-03; 8:45 am]

BILLING CODE 4510-43-P